DEPARTMENT OF THE INTERIOR

National Park Service

[NPS-NER-FIIS-24967; PS.SNELA0076.00.1]

Minor Boundary Revision at Fire Island National Seashore

AGENCY: National Park Service, Interior.

ACTION: Notification of boundary revision.

SUMMARY: The boundary of Fire Island National Seashore is modified to include 0.23 acres of land, more or less. Fee simple interest in the parcel will be donated to the United States from the National Park Foundation. The property is located in Suffolk County, New York, immediately adjacent to the northwestern boundary of the William Floyd Estate on the mainland portion of Fire Island National Seashore.

DATES: The effective date of this boundary revision is May 7, 2018.

ADDRESSES: The map depicting this boundary revision is available for inspection at the following locations: National Park Service, Land Resources Program Center, Northeast Region, 200 Chestnut Street, Philadelphia, PA 19106-2878, and National Park Service, Department of the Interior, 1849 C Street NW, Washington, DC 20240.

FOR FURTHER INFORMATION CONTACT: Deputy Realty Officer Jennifer Cherry, National Park Service, Land Resources Program Center, Northeast Region, New England Office, 115 John Street, 5th Floor, Lowell, MA 01852, telephone (978) 970-5260.

SUPPLEMENTARY INFORMATION: Notice is hereby given that, pursuant to 54 U.S.C. 100506(c), the boundary of Fire Island National Seashore is modified to include one adjoining tract containing 0.23 acres of land, more or less. The boundary revision is depicted on Map No. 615/137,241, dated March 2017.

Specifically, 54 U.S.C. 100506(c) provides that, after notifying the Committee on Natural Resources of the House of Representatives and the Committee on Energy and Natural Resources of the Senate, the Secretary of the Interior is authorized to make this boundary revision upon publication of notice in the Federal Register. The Committees have been notified of this boundary revision. This boundary revision and subsequent acquisition will ensure preservation and protection of the Park's historic and natural resources.

Dated: March 5, 2018.
Debbie Conway,
Acting Regional Director, Northeast Region.

[FR Doc. 2018-09583 Filed 5-4-18; 8:45 am]

BILLING CODE 4312-52-P